DEPARTMENT OF TRANSPORTATION

Federal Aviation Administration

14 CFR Part 71

[Docket No. FAA-2022-1455; Airspace Docket No. 21-AWP-42]

RIN 2120-AA66

Amendment of Class D and Class E Airspace; Lemoore Naval Air Station (NAS) (Reeves Field), CA

AGENCY: Federal Aviation Administration (FAA), DOT.

ACTION: Final rule.

SUMMARY: This action modifies the Class D and Class E surface airspace at Lemoore Naval Air Station, Reeves Field. It removes the Class E airspace designated as an extension to a Class D or Class E surface area, removes the Class E airspace extending from 1,200 feet above the surface, modifies the Class E airspace extending from 700 feet above the surface of the earth, and it makes several administrative changes to update the airport's legal descriptions. These actions will support the safety and management of instrument flight rule (IFR) and visual flight rule (VFR) operations at the airport.

DATES: Effective date 0901 UTC, August 10, 2023. The Director of the Federal Register approves this incorporation by reference under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11G, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Keith Adams, Federal Aviation Administration, Western Service Center, Operations Support Group, 2200 S 216th Street, Des Moines, WA 98198; telephone (206) 231-2428.

SUPPLEMENTARY INFORMATION:

Authority for This Rulemaking

The FAA's authority to issue rules regarding aviation safety is found in Title 49 of the United States Code. Subtitle I, Section 106, describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority, as it modifies Class D and Class E airspace, and revokes Class E airspace at Lemoore NAS, Reeves Field, CA, to support IFR and VFR operations at the airport.

History

The FAA published a notice of proposed rulemaking for Docket No. FAA-2022-1455 in the Federal Register (87 FR 77044; December 16, 2022), modifying the Class D and E airspace designated as surface areas, removing the Class E airspace area designated as an extension to a Class D or Class E surface area, modifying the Class E airspace extending upward from 700 feet above the surface, removing the Class E airspace extending upward from 1,200 feet above the surface, and modifying the administrative portion of the Class D and Class E airspace legal descriptions at Lemoore NAS, Reeves Field, CA. Interested parties were invited to participate in this rulemaking effort by submitting written comments on the proposal to the FAA. No comments were received.

Incorporation by Reference

Class D and Class E airspace designations are published in paragraphs 5000, 6002, 6004, and 6005, of FAA Order JO 7400.11, Airspace Designations and Reporting Points, which is incorporated by reference in 14 CFR 71.1 on an annual basis. This document amends the current version of that order, FAA Order JO 7400.11G, dated August 19, 2022, and effective September 15, 2022. FAA Order JO 7400.11G is publicly available as listed in the ADDRESSES section of this document. These amendments will be published in the next update to FAA Order JO 7400.11.

FAA Order JO 7400.11G lists Class A, B, C, D, and E airspace areas, air traffic service routes, and reporting points.

The Rule

This action amends 14 CFR part 71 by modifying the Class D airspace at Lemoore NAS (Reeves Field), Lemoore, CA. The Class D airspace is expanded from a 5.2-mile radius of the airport to a 5.4-mile radius to contain IFR departure operations more appropriately while between the surface and the base of adjacent controlled airspace.

The Class E airspace designated as a surface area is modified to be coincident with the Class D airspace.

The Class E airspace designated as an extension to the Class D and Class E surface areas is no longer needed and is removed. The modified lateral boundaries of the Class D and Class E surface areas are sufficient to contain IFR arrival operations while between the surface and 1,000 feet above the surface.

The Class E airspace extending upward from 700 feet above the surface at the airport is also modified. The north and southeast extensions of this Class E airspace are removed as the existing airspace within a 7.9-mile radius of the airport is sufficient to contain arriving IFR operations below 1,500 feet above the surface and departing IFR operations until they reach 1,200 feet above the surface.

The Class E airspace extending upward from 1,200 feet above the surface at the airport is removed as the area is already contained within the Sacramento Class E domestic en route airspace area, and duplication is not necessary.

Finally, this action makes several administrative modifications to the airport's legal descriptions. The city and airport name information in the first two lines of the text headers for both the Class D and Class E surface areas are incorrect. The term “NAS” is removed from line one of those descriptions, and the airport name is corrected by replacing the name “LeMoore” with “Lemoore” on the second line and in the body of both legal descriptions to match the FAA's database. The terms “Notice to Airmen” and “Airport/Facility Directory” in the Class D and E surface area legal descriptions are updated to read “Notice to Air Missions” and “Chart Supplement,” respectively, to match the FAA's current nomenclature. Reference to the Lemoore NAS Tactical Air Navigation Navigational Aid is removed from the legal description for the Class E airspace extending from 700 feet above the surface and is replaced with the airport name and geographical location.

Regulatory Notices and Analyses

The FAA has determined that this regulation only involves an established body of technical regulations for which frequent and routine amendments are necessary to keep them operationally current, is non-controversial, and unlikely to result in adverse or negative comments. It therefore: (1) is not a “significant regulatory action” under Executive Order 12866; (2) is not a “significant rule” under DOT regulatory policies and procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant the preparation of an environmental assessment.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11G, Airspace Designations and Reporting Points, dated August 19, 2022, and effective September 15, 2022, is amended as follows:

Paragraph 5000 Class D Airspace.

* * * * *

AWP CA D Lemoore, CA [Amended]

Lemoore NAS (Reeves Field), CA

(Lat. 36°19′59″ N, long. 119°57′08″ W)

That airspace extending upward from the surface to and including 2,700 feet MSL within a 5.4-mile radius of the airport. This Class D airspace area is effective during the specific dates and times established in advance by a Notice to Air Missions. The effective date and time will thereafter be continuously published in the Chart Supplement.

* * * * *

Paragraph 6002 Class E Airspace Areas Designated as a Surface Area.

* * * * *

AWP CA E2 Lemoore, CA [Amended]

Lemoore NAS (Reeves Field), CA

(Lat. 36°19′59″ N, long. 119°57′08″ W)

That airspace extending upward from the surface within a 5.4-mile radius of the airport. This Class E airspace area is effective during the specific dates and times established in advance by a Notice to Air Missions. The effective date and time will thereafter be continuously published in the Chart Supplement.

* * * * *

Paragraph 6004 Class E Airspace Areas Designated as an Extension to a Class D or Class E Surface Area.

* * * * *

AWP CA E4 Lemoore NAS, CA [Removed]

Lemoore NAS (Reeves Field), CA

(Lat. 36°19′59″ N, long. 119°57′08″ W)

Lemoore TACAN

(Lat. 36°20′39″ N, long. 119°57′59″ W)

That airspace extending upward from the surface within 1.8 miles each side of the Lemoore TACAN 335° and 357° radials, extending from the 5.2-mile radius of Lemoore NAS (Reeves Field) to 7 miles northwest and north of the TACAN, and within 1.8 miles each side of the Lemoore TACAN 155° radial, extending from the 5.2-mile radius to 7 miles southeast of the TACAN.

* * * * *

Paragraph 6005 Class E Airspace Areas Extending Upward From 700 Feet or More Above the Surface of the Earth.

* * * * *

AWP CA E5 Lemoore, CA [Amended]

Lemoore NAS (Reeves Field), CA

(Lat. 36°19′59″ N, long. 119°57′08″ W)

That airspace extending upward from 700 feet above the surface within a 7.9-mile radius of the airport.

* * * * *

Issued in Des Moines, Washington, on April 25, 2023.
B.G. Chew,
Group Manager, Operations Support Group, Western Service Center.

[FR Doc. 2023-09033 Filed 5-4-23; 8:45 am]

BILLING CODE 4910-13-P